DEPARTMENT OF TRANSPORTATION

Federal Aviation Administration

14 CFR Part 39

[Docket No. 2003-NE-51-AD; Amendment 39-13881; AD 2004-24-05]

RIN 2120-AA64

Airworthiness Directives; Rolls-Royce Deutschland Ltd. & Co KG (formerly Rolls-Royce plc), Models Spey 555-15, 555-15H, 555-15N, and 555-15P Turbojet Engines

AGENCY: Federal Aviation Administration (FAA), DOT.

ACTION: Final rule.

SUMMARY: The FAA is adopting a new airworthiness directive (AD) for Rolls-Royce Deutschland Ltd. & Co KG (RRD) (formerly Rolls-Royce plc), models Spey 555-15, 555-15H, 555-15N, and 555-15P turbojet engines, with magnesium split low pressure (LP) compressor case, part number (P/N) EU.73418A installed. This AD requires replacement of the magnesium split LP compressor case with a serviceable compressor case that is a combination of a steel front LP compressor case and a shortened split compressor case. This AD results from several reports of bird ingestion and LP compressor stage 1 rotor blade failures that have resulted in penetration of the magnesium LP compressor case, and damage to the airplane.

DATES: This AD becomes effective December 29, 2004.

ADDRESSES: You can get the service information identified in this AD from Rolls-Royce Deutschland Ltd & Co KG, Eschenweg 11, D-15827 Dahlewitz, Germany, telephone +49 (0) 33-7086-1768; fax +49 (0) 33-7086-3356.

You may examine the AD docket at the FAA, New England Region, Office of the Regional Counsel, 12 New England Executive Park, Burlington, MA.

FOR FURTHER INFORMATION CONTACT: Jason Yang, Aerospace Engineer, Engine Certification Office, FAA, Engine and Propeller Directorate, 12 New England Executive Park, Burlington, MA 01803-5299; telephone (781) 238-7747; fax (781) 238-7199.

SUPPLEMENTARY INFORMATION: The FAA proposed to amend 14 CFR part 39 with a proposed AD. The proposed AD applies to RRD models Spey 555-15, 555-15H, 555-15N, and 555-15P turbojet engines, with magnesium split LP compressor case, P/N EU.73418A installed. We published the proposed AD in the Federal Register on February 20, 2003 (68 FR 8157). That action proposed to require replacement of the magnesium split LP compressor case with a serviceable LP compressor case that is a combination of a steel front LP compressor case and a shortened split LP compressor case.

Examining the AD Docket

You may examine the AD Docket (including any comments and service information), by appointment, between 8 a.m. and 4:30 p.m., Monday through Friday, except Federal holidays. See ADDRESSES for the location.

Comments

We provided the public the opportunity to participate in the development of this AD. We have considered the one comment received.

One commenter requests that special flight permits be added to the final rule. We do not agree. On July 22, 2002, the FAA revised 14 CFR part 39 by adding the Special Flight Permit provision. Doing this allowed us to omit that provision from ADs, to help place the focus of ADs on the unsafe condition that created the need for each directive. ADs that allow Special Flight Permits with conditions, or that prohibit Special Flight Permits, will state those conditions in the compliance section. ADs that do not specify special flight conditions or do not prohibit special flight permits will not reference Special Flight Permits. If operators want to request Special Flight Permits, they must request them by following the procedure in 14 CFR part 39, § 39.25. Also, because this final rule requires that the actions be done within 60 months after the effective date of the AD, we anticipate no requests for a Special Flight Permit due to the amount of lead time available to comply with the AD.

Conclusion

We have carefully reviewed the available data, including the comments received, and determined that air safety and the public interest require adopting the AD as proposed.

Costs of Compliance

There are about 184 RRD models Spey 555-15, 555-15H, 555-15N, and 555-15P turbojet engines of the affected design in the worldwide fleet. We estimate that 34 engines installed on airplanes of U.S. registry will be affected by this AD. We also estimate that it will take about 6 work hours per engine to perform the actions, and that the average labor rate is $65 per work hour. Required parts will cost about $37,000 per engine. Based on these figures, we estimate the total cost of the AD to U.S. operators to be $1,271,260.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-51-AD” in your request.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2004-24-05 Rolls-Royce Deutschland Ltd. & Co KG (formerly Rolls-Royce plc): Amendment 39-13881. Docket No. 2003-NE-51-AD.

Effective Date

(a) This airworthiness directive (AD) becomes effective December 29, 2004.

Affected ADs

(b) None.

Applicability

(c) This AD applies to Rolls-Royce Deutschland Ltd. & Co KG (RRD) (formerly Rolls-Royce plc), models Spey 555-15, 555-15H, 555-15N, and 555-15P turbojet engines, with magnesium split low pressure (LP) compressor case, part number (P/N) EU.73418A installed. These engines are installed on, but not limited to, Fokker F.28 Mark 1000, Mark 2000, Mark 3000, and Mark 4000 series airplanes.

Unsafe Condition

(d) This AD is prompted by several reports of bird ingestion and LP compressor stage 1 rotor blade failures that have resulted in penetration of the magnesium split LP compressor case and damage to the airplane. We are issuing this AD to prevent possible uncontained LP compressor stage 1 rotor blade failures that could result in damage to the airplane.

Compliance

(e) You are responsible for having the actions required by this AD performed within 60 months after the effective date of this AD, unless the actions have already been done.

Replacement of Magnesium Split LP Compressor Case With a Serviceable Compressor Case

(f) Remove the magnesium split LP compressor case, P/N EU.73418A, from the engine and install a serviceable LP compressor case. Information on removing and replacing this P/N case can be found in RRD Service Bulletin No. Sp72-893, Revision 3, dated August 25, 2003.

Alternative Methods of Compliance

(g) The Manager, Engine Certification Office, has the authority to approve alternative methods of compliance for this AD if requested using the procedures found in 14 CFR 39.19.

Material Incorporated by Reference

(h) None.

Related Information

(i) LBA airworthiness directive 2003-261, dated August 25, 2003, also addresses the subject of this AD.

Issued in Burlington, Massachusetts, on November 15, 2004.
Jay J. Pardee,
Manager, Engine and Propeller Directorate, Aircraft Certification Service.

[FR Doc. 04-25790 Filed 11-23-04; 8:45 am]

BILLING CODE 4910-13-P